DEPARTMENT OF ENERGY

Federal Energy Regulatory Commission

[Project No. P-2082-027]

Klamath Hydroelectric Project; Notice Of Meeting

December 29, 2004.

Commission staff is scheduled to meet with representatives of the Karuk Tribe regarding the Klamath Hydroelectric Project relicensing. The meeting will be held at the location and time listed below: Karuk Community Center, 39051 Highway 96, Orleans, California 95556, January 12, 2005, 10 a.m. (P.s.t.).

Members of the public and intervenors in the referenced proceedings may attend this meeting; however, participation will be limited to tribal representatives and the Commission representatives. If the Tribe decides to disclose information about a specific location which could create a risk or harm to an archeological site or Native American cultural resource, the public will be excused for that portion of the meeting when such information is disclosed.¹ If you plan to attend this meeting, please contact John Mudre at the Federal Energy Regulatory Commission at 202-502-8902 or john.mudre@ferc.gov. The meeting will be transcribed by a court reporter, and public transcript will be made available by the Commission following the meeting.

¹ Protection from public disclosure involving this kind of specific information is based upon 18 CFR 4.32(b)(3)(ii) of the Commission's regulations implementing the Federal Power Act.

Magalie R. Salas,
Secretary.

[FR Doc. E4-3937 Filed 1-4-05; 8:45 am]

BILLING CODE 6717-01-P